DEPARTMENT OF HOMELAND SECURITY

Transportation Security Administration

Notice of Intent To Request Approval From the Office of Management and Budget (OMB) for Three New Collections of Information; Registered Traveler (RT) Pilot Program; Satisfaction and Effectiveness Measurement Data Collection Instruments

AGENCY: Transportation Security Administration (TSA), DHS.

ACTION: Notice.

SUMMARY: TSA invites public comment on the information collection requirement abstracted below that will be submitted to OMB in compliance with the Paperwork Reduction Act of 1995.

DATES: Send your comments by May 17, 2004.

ADDRESSES: Comments may be delivered to Pamela Friedmann, Director Public Private Initiatives, Office of Transportation Security Policy, TSA Headquarters, West Tower, 11th Floor, TSA-9, 601 S. 12th Street, Arlington, VA 22202-4220; or by e-mail at pamela.friedmann@dhs.gov.

FOR FURTHER INFORMATION CONTACT: Conrad Huygen, Privacy Act Officer, Information Management Programs, TSA Headquarters, West Tower 412-S, TSA-17, 601 S. 12th Street, Arlington, VA 22202-4220; telephone (571) 227-1954; facsimile (571) 227-2912.

SUPPLEMENTARY INFORMATION: In accordance with the Paperwork Reduction Act of 1995, (44 U.S.C. 3501 et seq.), an agency may not conduct or sponsor, and a person is not required to respond to a collection of information, unless it displays a valid OMB control number. Therefore, in preparation for submission of clearance of the following information collection, TSA solicits comments in order to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Description of Data Collection

TSA plans to conduct a pilot technology program in 2004, in a limited number of airports, to test and evaluate the merits of the Registered Traveler (RT) concept. This pilot program (RT Pilot) is designed to positively identify qualified, known travelers via advanced identification technologies for the purposes of expediting those passengers' travel experience at the airport security checkpoints and thereby enabling TSA to improve the allocation of its limited security resources.

TSA will collect and retain a minimal amount of personal information from individuals who volunteer to participate in the RT Pilot that will be used to verify an applicant's claimed identity, complete a background check, and, if applicable, issue an identification token prior to enrollment in the program. In addition, TSA will administer two instruments to measure customer satisfaction and to collect data on the effectiveness of the pilot technologies and business processes. The first instrument will be a survey of a representative percentage of the RT Pilot participants. The second instrument will be an interview conducted with the key stakeholders at sites participating in the RT Pilot. All surveys and interviews will be voluntary and anonymous.

The collection of information from individuals who volunteer to participate in the RT Pilot will be gathered electronically. This not only fulfills the requirements of the Government Paperwork Elimination Act, but it also facilitates the collection and processing of the data and provides an efficient means of retrieving credential information. Due to operational constraints and practical considerations, the RT customer service surveys and interviews will be conducted manually. RT surveys will be distributed at airports and the respondents may freely choose not to participate. The respondents who choose to participate in the surveys will be asked to return the completed survey in less than 30 days from the time of receipt; they may choose not to comply with this request. Key stakeholders involved in the RT Pilot will be asked to designate representative(s) to participate in short, individual interview sessions intended to evaluate the effectiveness of the RT Pilot from the stakeholders' perspective and to gather any additional feedback the stakeholder may wish to share. Stakeholders who choose to participate in the interview sessions will be asked to schedule an interview with TSA no later than 30 days after the completion of the RT Pilot. Interview sessions will be conducted on a one-on-one basis at mutually agreed upon locations. Stakeholders may choose not to participate in the interview sessions.

Burden Estimates of Data Collection

For the initial RT Pilot program volunteer enrollments, we expect a total of 5,000 respondents and, based on an estimate of a 10-minute burden per respondent, a maximum total burden program-wide of 833 hours. For the survey submissions, we expect a total of 750 respondents and, based on an estimate of a 15-minute burden per respondent, a maximum total burden program-wide of 187.5 hours. For the stakeholder interview sessions, we expect approximately 20 stakeholder representatives to participate and, based on an estimate of a 45-minute burden per interview, a maximum total burden of 15 hours.

Issued in Arlington, Virginia, on March 12, 2004.
Susan T. Tracey,
Chief Administrative Officer.

[FR Doc. 04-6074 Filed 3-17-04; 8:45 am]

BILLING CODE 4910-62-P